U.S.-CHINA ECONOMIC AND SECURITY REVIEW COMMISSION

Notice of Open Public Hearing

AGENCY: U.S.-China Economic and Security Review Commission.

ACTION: Notice of open public hearing—March 29-30, 2007, Washington, DC.

SUMMARY: Notice is hereby given of the following hearing of the U.S.-China Economic and Security Review Commission.

Name: Carolyn Bartholomew, Chairman of the U.S.-China Economic and Security Review Commission.

The Commission's statutory mandate from Congress, contained in Pub. L. 109-108, directs it to assess, among other key dynamics of the U.S.-China relationship, “the state of the security challenges presented by the People's Republic of China to the United States and whether the security challenges are increasing or decreasing from previous years.” This hearing is part of the Commission's efforts to obtain the information it needs to fulfill this portion of its congressional mandate.

Pursuant to this mandate, the Commission will hold a public hearing in Washington, DC on March 29-30, 2007 to address “China's Military Modernization and its Impact on the United States and the Asia-Pacific.”

Background

This event is the second in a series of public hearings the Commission will hold during its 2007 report cycle to collect input from leading experts in government, the academe and industry, to examine China's capacity to wage war in the irregular, traditional, and disruptive domains as set fourth in the threat framework described in the 2006 Quadrennial Defense Review. Subtopics to be explored include: Chinese perception management campaigns directed at the populations of other countries, doctrines and tactics of the People's Liberation Army (PLA) aimed at undermining the technological edge of U.S. forces (including newly-demonstrated anti-satellite capabilities), and the ways in which PLA modernization has affected the military balance across the Taiwan Strait.

On March 29, the hearing will be divided into four sessions. In each session, commissioners will hear testimony from witnesses followed by a question and answer period between the Commissioners and the witnesses. Members of Congress will comprise the first panel and share their perspectives on the general issue of Chinese military modernization. The second panel will examine Beijing's doctrine on the conduct of irregular forms of warfare, including such acts as interrupting supply chains or manufacturing processes through economic means, managing perceptions about China in potentially hostile nations, and the use of cyber terrorism. The third session will explore topics related to PLA modernization in the domain of traditional warfare, especially as it relates to force integration and force projection. The fourth session will survey the military balance across the Taiwan Strait, including the implications of the significant intertwining of economic activity between actors in the PRC and Taiwan.

On March 30, there will be two hearing sessions that examine China's disruptive warfare capabilities. The first session will focus on the tactics and doctrines aimed at undermining the current qualitative advantage of U.S. forces through asymmetric means, such as cruise missiles and submarine forces, in order to deter U.S. intervention in Pacific theater conflicts. The second session that morning (and the final session of the hearing) will examine the role that space and counter-space technology will play in disrupting U.S. operability in the region. Specifically, panelists will analyze what the January 2007 anti-satellite test means for the security of U.S. forces, the implications for free access and transit of outer space, and the effects of the resulting space debris.

The hearing will be cochaired by Commissioners William Reinsch and Larry Wortzel.

Information on this hearing, including a detailed hearing agenda and information about panelists, will be made available on the Commission's Web site closer to the hearing date. Detailed information about the Commission, the texts of its annual reports and hearing records, and the products of research it has commissioned can be found on the Commission's Web site at www.uscc.gov.

Any interested party may file a written statement by March 29, 2007, by mailing to the contact below.

Dates And Times: Thursday, March 29, 2007, 9 a.m. to 4 p.m. Eastern Standard Time and Friday, March 30, 2007, 8:30 a.m. to 11:30 a.m.

ADDRESSES: The hearing will be held on Capitol Hill in Room 562 of the Dirksen Senate Office Building located at First Street and Constitution Avenue, NE., Washington, DC 20510. Public seating is limited to approximately 50 people on a first come, first served basis. Advance reservations are not required.

FOR FURTHER INFORMATION CONTACT: Any member of the public wishing further information concerning the hearing should contact Kathy Michels, Associate Director of the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Pub. L. 109-108 (November 22, 2005) for the purpose of monitoring, investigating, and reporting to the Congress on the national security implications of the bilateral economic relationship between the United States and the People's Republic of China. It is charged with providing an annual report of its findings and recommendations to the Congress. The Commission is composed of twelve Commissioners appointed by the leaders of both parties in the U.S. House and U.S. Senate.

Dated: March 8, 2007.
Kathleen J. Michels,
Associate Director, U.S.-China Economic and Security Review Commission.

[FR Doc. E7-4604 Filed 3-13-07; 8:45 am]

BILLING CODE 1137-00-P